DEPARTMENT OF COMMERCE

National Oceanic and Atmospheric Administration

50 CFR Part 600

[I.D. 040202C]

Magnuson-Stevens Act Provisions, Subpart H; General Provisions for Domestic Fishing; Correction

AGENCY: National Marine Fisheries Service (NMFS), National Oceanic and Atmospheric Administration (NOAA), Commerce.

ACTION: Correction of notice of receipt of petition for rulemaking and request for comments.

SUMMARY: In the April 18, 2002, Federal Register, NMFS announced receipt of a petition for rulemaking under the Administrative Procedure Act. Oceana, a non-governmental organization concerned with the environmental health of the oceans, petitioned the U.S. Department of Commerce to promulgate immediately a rule to establish a program to count, cap, and control bycatch in U.S. fisheries. The announcement indicated under “ADDRESSES” where copies of the petition could be obtained, and under “SUPPLEMENTARY INFORMATION” that a copy of the petition was available at a NMFS website. An error in the NMFS web address is corrected by this document.

ADDRESSES: Copies of the petition are available, and written comments on the need for such a regulation, its objectives, alternative approaches, and any other comments may be addressed to William T. Hogarth, Ph.D., Assistant Administrator for Fisheries, NMFS, 1315 East-West Highway, Silver Spring, MD 20910; telephone 301-713-2239. Comments may also be sent via fax to 301-713-1193, attn: Val Chambers. Comments will not be accepted if submitted via e-mail or Internet.

FOR FURTHER INFORMATION CONTACT: Val Chambers, telephone 301-713-2341, fax 301-713-1193, e-mail Val.Chambers@noaa.gov.

SUPPLEMENTARY INFORMATION: Notice of receipt of the petition for rulemaking as filed by Oceana was published in the Federal Register on April 18, 2002 (67 FR 19154). The petition asserts that NMFS is not meeting its legal obligations for bycatch of birds, mammals, turtles, and fish under the Magnuson-Stevens Fishery Conservation and Management Act, the Endangered Species Act, the Marine Mammal Protection Act, and the Migratory Bird Treaty Act. The petition seeks a regulatory program that includes a workplan for observer coverage sufficient to provide statistically reliable bycatch estimates in all fisheries, the incorporation of bycatch estimates into restrictions on fishing, the placing of limits on directed catch and bycatch in each fishery with provision for closure upon attainment of either limit, and bycatch assessment and reduction plans as a requirement for all commercial and recreational fisheries.

Correction

In proposed rule FR Doc. 02-9462 published on April 18, 2002, (67 FR 19154) make the following correction. On page 19154, under “SUPPLEMENTARY INFORMATION”, in the third column, the first complete paragraph is corrected to read as follows:

“The exact and complete assertions of nonconformance with Federal law are contained in the text of Oceana's petition which is available via internet at the following NMFS web address: http://www.nmfs.noaa.gov/sfa/sfweb/index.htm. Also, anyone may obtain a copy of the petition by contacting NMFS at the above address.”

This corrects the error in the website address.

The Assistant Administrator for Fisheries has determined that the petition contains enough information to enable NMFS to consider the substance of the petition. NMFS will consider public comments received in determining whether or not to proceed with the development of the regulations requested by Oceana. To this end, NMFS, by separate letter, has requested each of the Regional Fishery Management Councils to assist in evaluating this petition. Upon determining whether or not to initiate the requested rulemaking, the Assistant Administrator for Fisheries, NOAA, will publish a notice of the agency's final disposition of the Oceana petition request in the Federal Register.

Dated: April 25, 2002.
John H. Dunnigan,
Director, Office of Sustainable Fisheries, National Marine Fisheries Service.

[FR Doc. 02-10757 Filed 4-26-02; 4:30 pm]

BILLING CODE 3510-22-S